DEPARTMENT OF THE TREASURY

Submission for OMB Review; Comment Request

September 19, 2012.

The Department of the Treasury will submit the following information collection request to the Office of Management and Budget (OMB) for review and clearance in accordance with the Paperwork Reduction Act of 1995, Public Law 104-13, on or after the date of publication of this notice.

DATES: Comments should be received on or before October 29, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0865.

Type of Review: Revision of a currently approved collection.

Title: Material Advisor Disclosure Statement.

Form: 8918.

Abstract: The American Jobs Creation Act of 2004, Public Law 108-357, 118 Stat. 1418, (AJCA) was enacted on October 22, 2004. Section 815 of the AJCA amended section 6111 to require each material advisor with respect to any reportable transaction to make a return (in such form as the Secretary may prescribe) setting forth: (1) Information identifying and describing the transaction; (2) information describing any potential tax benefits expected to result from the transaction; and (3) such other information as the Secretary may prescribe.

Affected Public: Private Sector: Business or other for-profits.

Estimated Total Burden Hours: 5,096.

OMB Number: 1545-1545.

Type of Review: Extension without change of a currently approved collection.

Title: TD 8769—(Final) Permitted Elimination of Preretirement Optional Forms of Benefit (REG-107644-97).

Abstract: The regulation permits an amendment to a qualified plan that eliminates certain preretirement optional forms of benefit.

Affected Public: Private Sector: Business or other for-profits.

Estimated Total Burden Hours: 48,800.

OMB Number: 1545-1969.

Type of Review: Extension without change of a currently approved collection.

Title: Waiver of Right to Consistent Agreement of Partnership Items and Partnership-Level Determinations as to Penalties, Additions to Tax, and Additional Amounts.

Form: 13751.

Abstract: per the IRS Global Settlement Initiative, the information requested on Form 13751 will be used to determine the eligibility for participation in the settlement initiative of taxpayers related through TEFRA partnerships to ineligible applicants. Such determinations will involve partnership items and partnership-level determinations, as well as the calculation of tax liabilities resolved under this initiative, including penalties and interest.

Affected Public: Private Sector: Business or other for-profits.

Estimated Total Burden Hours: 100.

OMB Number: 1545-2115.

Type of Review: Extension without change of a currently approved collection.

Title: TD 9481—Travel Expenses of State Legislators (REG-119518-07).

Abstract: This document contains regulations relating to travel expenses of state legislators. The regulations affect state legislators who make the election under section 162(h) of the Internal Revenue Code to treat their residences in their legislative districts as their tax homes.

Affected Public: Individuals or Households.

Estimated Total Burden Hours: 3,700.

OMB Number: 1545-2134.

Type of Review: Extension without change of a currently approved collection.

Title: Notice 2009-41—Credit for Residential Energy Efficient Property.

Abstract: This notice provides guidance about the procedures by which a manufacturer can certify that residential energy efficient property qualifies for the § 25D credit. This notice is intended to provide (1) guidance concerning the methods by which manufacturers can provide such certifications to taxpayers, and (2) guidance concerning the methods by which taxpayers can claim such credits.

Affected Public: Individuals or Households.

Estimated Total Burden Hours: 350.

OMB Number: 1545-2138.

Type of Review: Extension without change of a currently approved collection.

Title: Notice of Expatriation and Waiver of Treaty Benefits.

Form: W-8CE.

Abstract: Information used by taxpayer to notify payer of expatriation so that proper tax treatment is applied by payer. The taxpayer is required to file this form to obtain any benefit accorded by the statute.

Affected Public: Individuals or Households.

Estimated Total Burden Hours: 2,840.

Robert Dahl,
Treasury PRA Clearance Officer.

[FR Doc. 2012-24079 Filed 9-27-12; 8:45 am]

BILLING CODE 4830-01-P